DEPARTMENT OF LABOR

Employment and Training Administration

[TA-W-58,941]

Delphi Connection Systems, Packard Hughes Interconnections, Irvine, CA; Amended Certification Regarding Eligibility to Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on March 24, 2006, applicable to workers of Delphi Connection Systems, Irvine, California. The notice was published in the Federal Register on April 12, 2006 (71 FR 18772).

At the request of the State agency, the Department reviewed the certification for workers of the subject firm. The workers were engaged in the production of flexible wiring harnesses and connectors for harsh environment.

New information shows that Packard Hughes Interconnect is the parent firm of Delphi Connection Systems. Workers separated from employment at the subject firm had their wages reported under a separate unemployment insurance (UI) tax account for Packard Hughes Interconnect.

Accordingly, the Department is amending the certification to properly reflect this matter.

The intent of the Department's certification is to include all workers of Delphi Connection Systems who were adversely affected by a shift in production to Mexico.

The amended notice applicable to TA-W-58,941 is hereby issued as follows:

“All workers of Delphi Connection Systems, Packard Hughes Interconnect, Irvine, California, who became totally or partially separated from employment on or after February 27, 2005, through March 24, 2008, are eligible to apply for adjustment assistance under Section 223 of the Trade Act of 1974, and are also eligible to apply for alternative trade adjustment assistance under Section 246 of the Trade Act of 1974.”

Signed at Washington, DC, this 20th day of July 2006.
Linda G. Poole,
Certifying Officer, Division of Trade Adjustment Assistance.

[FR Doc. E6-13086 Filed 8-9-06; 8:45 am]

BILLING CODE 4510-30-P